DEPARTMENT OF LABOR

Employment and Training Administration

[TA-W-62,749]

Industrial Wire Products, Sullivan, MO; Notice of Termination of Investigation

Pursuant to section 221 of the Trade Act of 1974, as amended, an investigation was initiated on January 28, 2008 in response to a worker petition filed on behalf of workers of Industrial Wire Products, Sullivan, Missouri.

The petition regarding the investigation has been deemed invalid. One of the petitioners was separated from employment more then twelve months prior to the petition date. Additionally, each of the petitioners provided separation dates that would render them covered by a certification previously issued for this worker group. All workers of Industrial Wire Products, Inc., Sullivan, Missouri, separated from employment on or after October 4, 2004 through November 14, 2007, are eligible to apply for worker adjustment assistance (TAA) and alternative trade adjustment assistance (ATAA) under petition number TA-W-58,079.

Consequently, further investigation in this case would serve no purpose, and the investigation has been terminated.

Signed at Washington, DC, this 11th day of March 2008.
Linda G. Poole,
Certifying Officer, Division of Trade Adjustment Assistance.

[FR Doc. E8-5731 Filed 3-20-08; 8:45 am]

BILLING CODE 4510-FN-P